DEPARTMENT OF TRANSPORTATION

Federal Highway Administration

[Docket No. FHWA-2023-0012]

Agency Information Collection Activities: Approval Request

AGENCY: Federal Highway Administration (FHWA), DOT.

ACTION: Notice and request for comments.

SUMMARY: FHWA invites public comments about our intention to request the Office of Management and Budget's (OMB) approval for a new information collection. In compliance with the Paperwork Reduction Act of 1995, the Department of Transportation (DOT) provides notice that it will submit an information collection request (ICR) to the Office of Management and Budget (OMB) for approval of a proposed information collection. This collection involves applicants to submit a proposal for discretionary grant funding, under the Charging and Fueling Infrastructure Program established by the Infrastructure Investment and Jobs Act of 2021, November 15, 2021, “Bipartisan Infrastructure Law”, or “BIL”. FHWA is requesting emergency approval due to the urgency of making the associated funds available to applicants that meet the eligibility requirements under the law. The continued viability of these funds is critical in supporting the transportation infrastructure needs across the United States.

DATES: Please submit comments by July 3, 2023.

ADDRESSES: You may send comments within 60 days to the Office of Information and Regulatory Affairs, Office of Management and Budget, 725 17th Street NW, Washington, DC 20503, Attention DOT Desk Officer. You are asked to comment on any aspect of this information collection, including: (1) whether the proposed collection is necessary for the FHWA's performance; (2) the accuracy of the estimated burden; (3) ways for the FHWA to enhance the quality, usefulness, and clarity of the collected information; and (4) ways that the burden could be minimized, including the use of electronic technology, without reducing the quality of the collected information. All comments should include the Docket number FHWA-2023-0012.

FOR FURTHER INFORMATION CONTACT: Gary Jensen, Director Office of Natural Environment, Federal Highway Administration, Department of Transportation, 1200 New Jersey Ave. SE, Washington, DC, between 9 a.m. and 5 p.m., Monday through Friday, except Federal holidays.

SUPPLEMENTARY INFORMATION: This is a request for Office of Management and Budget (OMB) emergency clearance for a new information collection request (ICR) to enable the Department of Transportation (DOT) Federal Highway Administration (FHWA) to implement the Charging and Fueling Infrastructure Discretionary Grant Program. This program provides two grant categories: (1) Community Program and (2) Corridor Program. The CFI was authorized in the Bipartisan Infrastructure Law (BIL), enacted as the Infrastructure Investment and Jobs Act (Act) (Pub. L. 117-58) on November 15, 2021. This historic Act is a once-in-a-generation opportunity to support transformational investments in our Nation's transportation infrastructure that will create good jobs, modernize our infrastructure, improve safety, tackle the climate crisis, and invest in communities that have too often been left behind. The program will strategically deploy publicly accessible electric vehicle charging infrastructure, and hydrogen, propane, or natural gas fueling infrastructure along designated alternative fuel corridors or in community locations that will be accessible to all drivers of electric vehicles, hydrogen vehicles, propane vehicles, and natural gas vehicles.

The CFI Grant Program is critical to enabling eligible entities to accelerate an electrified and alternative fuel transportation system that is convenient, affordable, reliable, equitable, and safe. This program will support a future where everyone can ride and drive electric and have alternative fuel options. The FHWA is seeking to award CFI projects that proactively address emission reductions, infrastructure reliability, development of a skilled and diverse workforce, community engagement and equity including the decades of underinvestment in disadvantaged communities—communities that are underserved and overburdened.

The statutory requirements of the CFI Grant Program are found under Subtitle D section 11401 of the BIL and codified at 23 U.S.C. 151. In BIL, Congress authorized funding for five Fiscal Years (including FY 2022/2023), totaling up to $2.5B (FY 2022 $300M, FY 2023 $400M, FY 2024 $500M, FY 2025 $600M, and FY 2026 $700M) to CFI eligible projects. For FY 2022/2023, a total of $700 M is available under one NOFO for awards under two funding categories: Community Program and Corridor Program.

The statute defines eligible applicants for the CFI Grant Program as State or political subdivision of a State; a metropolitan planning organization; a unit of local government; a special purpose district or a public authority with a transportation function; an Indian Tribe; a territory of the United States; or an authority, agency, or instrumentality of, or an entity owned by, 1 or more entities described above; a group of entities as described above; and a State or local authority with ownership of publicly accessible transportation facilities (Community Program only).:

Title: Charging and Fueling Infrastructure Discretionary Grant Program.

Expected Number of Respondents: 550.

Frequency: Application submission and project agreement execution will occur one time while project management will occur over three years.

Estimated Average Burden per Response: $3,280 (application submission, project agreement execution, and 3 years of project management).

Estimated First Year Burden: $1,408,000.

Abstract: On November 15, 2021, the Infrastructure Investment and Jobs Act of 2021 (Pub. L. 117-58).

“Bipartisan Infrastructure Law (BIL)” was enacted. Section 1118 established the Charging and Fueling Infrastructure (CFI) Program.

Application Stage

In order to be considered to receive a grant, a project sponsor must submit an application to FHWA containing a project narrative, as detailed in the Notice of Funding Opportunity. The application should contain the information necessary for the FHWA to determine that the project satisfies eligibility requirements as required by law.

The FHWA will receive applications from project sponsors and reports from grant recipients electronically via email and via websites upon approval from OMB. In order to minimize the burden on applicants, OMB approved standard forms are being used to collect information where possible. Such standard forms include the Application for Federal Assistance (SF-424), available online at https://apply07.grants.gov/apply/forms/sample/SF424_2_1-V2.1.pdf, and the post-award Federal Financial Reports form (SF-425), available online at https://apply07.grants.gov/apply/forms/sample/SF425_2_0-V2.0.pdf.

All information submitted as part of or in support of any application shall use publicly available data or data that can be made public. If the application includes information the applicant considers to be a trade secret or confidential commercial or financial information, the applicant should do the following: (1) Note on the front cover that the submission “Contains Confidential Business Information (CBI)”; (2) mark each affected page “CBI”; and (3) highlight or otherwise denote the CBI portions. DOT protects such information from disclosure to the extent allowed under applicable law. In the event DOT receives a Freedom of Information Act (FOIA) request for the information, DOT will follow the procedures described in its FOIA regulations at 49 CFR 7.17. Only information that is ultimately determined to be confidential under that procedure will be exempt from disclosure under FOIA. This grant program is voluntary. No entity eligible to apply is required to participate. However, applicants will be expected to provide the following information.

The FHWA will collect the following information:

Legal Name of the Applicant (i.e., the legal name of eligible entity) as well as any other identities under which the applicant may use.

• Address, telephone, and email contact information for the applicant.

• Name and title of the authorized representative of the applicant (who will attest to the required certifications).

• DOT may also require the identity of external parties involved in preparation of the application, who may be assisting the applicant that is applying for assistance under this program.

• The specific statutory criteria that the applicant and project meet for eligibility under this program.

Eligible Applicants

The statute defines eligible applicants for the CFI Corridor Grants as: (1) a State or political subdivision of a State; (2) a metropolitan planning organization; (3) a unit of local government; (4) a special purpose district or a public authority with a transportation function; (5) an Indian tribe (as defined in section 4 of the Indian Self-Determination and Education Assistance Act (25 U.S.C. 5304)); (6) a territory of the United States; (7) an authority, agency, or instrumentality of, or an entity owned by, 1 or more entities listed above; or (8) a group of entities as described above in 1-7.

The statute defines eligible applicants for the CFI Community Grants as a group of entities as listed above in the Corridor Grant Program and a State or local authority with ownership of publicly accessible transportation facilities.

Eligible Projects

The statute defines eligible projects to include:

Eligible projects: Community grants | Eligible projects: Corridor grants
Project that is expected to reduce greenhouse gas emissions and to expand or fill gaps in access to publicly accessible electric vehicle charging infrastructure, hydrogen fueling infrastructure, propane fueling infrastructure, or natural gas fueling infrastructure. (23 U.S.C. 151 (f)(8)((D)) | Acquisition and installation of publicly accessible electric vehicle charging infrastructure, hydrogen fueling infrastructure, propane fueling infrastructure, or natural gas fueling infrastructure that is directly related to the charging or fueling of a vehicle. (23 U.S.C. 151(f)(6)(A)).
Development phase activities, including planning, feasibility analysis, revenue forecasting, environmental review, preliminary engineering and design work, and other preconstruction activities. (23 U.S.C. 151(f)(8)(D)(i)) | Operations Assistance. Operating assistance for the first 5 years of operations after the installation of publicly available electric vehicle charging infrastructure, hydrogen fueling infrastructure, propane fueling infrastructure, or natural gas fueling infrastructure while the facility transitions to independent system operations. (23 U.S.C. 151(f)(6)(C)).
The acquisition and installation of electric vehicle charging infrastructure, hydrogen fueling infrastructure, propane fueling infrastructure, or natural gas fueling infrastructure that is directly related to the charging or fueling of a vehicle, including any related construction or reconstruction and the acquisition of real property directly related to the project, such as locations described in section 3.d of this NOFO, to expand access to electric vehicle charging infrastructure, hydrogen fueling infrastructure, propane fueling infrastructure, or natural gas fueling infrastructure. 23 U.S.C. 151(f)(8)(ii)) | Traffic Control Devices.¹ Acquisition and installation of traffic control devices located in the right-of-way to provide directional information to publicly accessible electric vehicle charging infrastructure, hydrogen fueling infrastructure, propane fueling infrastructure, or natural gas fueling infrastructure acquired, installed, or operated with the grant. (23 U.S.C. 151(f)(6)(D)(i)). Use of funds for the acquisition and installation traffic control devices must be for the acquisition and installation of publicly accessible electric vehicle charging infrastructure, hydrogen fueling infrastructure, propane fueling infrastructure, or natural gas fueling infrastructure. (23 U.S.C. 151(f)(6)(D)(ii)).
¹ Any traffic control device or on-premises sign acquired, installed, or operated with a grant under this subsection shall comply with: (i) the Manual on Uniform Traffic Control Devices, if located in the right-of-way; and (ii) other provisions of Federal, State, and local law, as applicable. (23 U.S.C. 151(f)(9)(B))).

Statutory Selection Considerations, Priories and Additional Considerations

The chart below outlines the Statutory Section Criteria that will be used for the Community Program and the Corridor Program under the CFI Program Grants.

Selection criteria | Community program | Corridor program
Secretarial Statutory Selection Considerations 23 U.S.C. 151(f)(5) |  | ✓
Secretarial Statutory Selection Priorities 23 U.S.C. 151(f)(8)(F) | ✓
Secretarial Statutory Additional Considerations 23 U.S.C. 151(f)(8)(G) | ✓

Secretarial Statutory Selection Considerations—Corridor Program Only

The following are Secretarial Statutory Selection Considerations for the CFI Program, which are unique to the Corridor Program.

(1) The extent to which the application would improve alternative fueling corridor networks by (i) converting corridor-pending corridors to corridor-ready corridors or (ii) in the case of corridor-ready corridors, providing redundancy (aa) to meet excess demand for charging or fueling infrastructure; or (bb) to reduce congestion at existing charging or fueling infrastructure in high-traffic locations (23 U.S.C. 151(f)(5)(A)(i)(I) and (II) (aa) and (bb)).

(2) The extent to which the application would meet current or anticipated market demands for charging or fueling infrastructure (23 U.S.C. 151(f)(5)(A)(ii)); The extent to which the application would support a long-term competitive market for electric vehicle charging, or hydrogen, propane, or natural gas fueling infrastructure, and does not significantly impair existing charging and fueling infrastructure providers (23 U.S.C. 151(f)(5)(A)(iv)); and The extent to which the application would provide access to electric vehicle charging infrastructure, hydrogen fueling infrastructure, propane fueling infrastructure, or natural gas fueling infrastructure in areas with a current or forecasted need (23 U.S.C. 151(f)(5)(A)(v)).

(3) The extent to which the application would enable or accelerate the construction of charging or fueling infrastructure that would be unlikely to be completed without Federal assistance (23 U.S.C. 151(f)(5)(A)(iii)).

(4) The extent to which the application would deploy electric vehicle charging infrastructure, hydrogen fueling infrastructure, propane fueling infrastructure, or natural gas fueling infrastructure for medium- and heavy-duty vehicles (including along the National Highway Freight Networkestablished under section 167(c)) and in proximity to intermodal transfer stations (23 U.S.C. 151(f)(5)(A)(vi).

(5) The extent to which the application would ensure, to the maximum extent practicable, geographic diversity among grant recipients to ensure that electric vehicle charging infrastructure, hydrogen fueling infrastructure, propane fueling infrastructure, or natural gas fueling infrastructure is available throughout the United States (23 U.S.C. 151(f)(5)(B)).

(6) Whether the private entity that the eligible entity contracts with an eligible project (i) submits to the Secretary the most recent year of audited financial statements and (ii) has experience in installing and operating electric vehicle charging infrastructure, hydrogen fueling infrastructure, propane fueling infrastructure, or natural gas fueling infrastructure(23 U.S.C. 151(f)(5)(C)(i) and (ii)).

(7) Whether, to the maximum extent practicable, the eligible entity and the private entity that the eligible entity contracts for an eligible project enter into an agreement (i) to operate and maintain publicly available electric vehicle charging infrastructure, hydrogen fueling infrastructure, propane fueling infrastructure, or natural gas infrastructure and (ii) that provides a remedy and an opportunity to cure if the requirements described in clause (i) are not met (23 U.S.C. 151(f)(5)(D)(i) and (ii)).

Secretarial Statutory Selection Priorities—Community Program Only

The following are Secretarial Statutory Selection Priorities for the CFI Program, which are unique to the Community Program.

(1) Priority goes to projects that expand access to electric vehicle charging infrastructure, hydrogen fueling infrastructure, propane fueling infrastructure, or natural gas fueling infrastructure within rural areas (23 U.S.C. 151(f)(8)(F)(i));

(2) Priority goes to projects that expand access to electric vehicle charging infrastructure, hydrogen fueling infrastructure, propane fueling infrastructure, or natural gas fueling infrastructure within low- and moderate-income neighborhoods (23 U.S.C. 151(f)(8)(F)(ii)); and

(3) Priority goes to projects that expand access to electric vehicle charging infrastructure, hydrogen fueling infrastructure, propane fueling infrastructure, or natural gas fueling infrastructure within communities with a low ratio of private parking spaces to households or a high ratio of multiunit dwellings to single family homes, as determined by the Secretary (23 U.S.C. 151(f)(8)(F)(iii)).

Secretarial Statutory Additional Considerations—Community Program Only

The following are Secretarial Statutory Additional Considerations for the CFI Program which are unique to the Community Program.

(1) The extent to which the project contributes to geographic diversity among eligible entities, including achieving a balance between urban and rural communities (23 U.S.C. 151(f)(8)(G)(i)); and

(2) The extent to which the project meets current or anticipated market demands for charging or fueling infrastructure, including faster charging speeds with high-powered capabilities necessary to minimize the time to charge or refuel current and anticipated vehicles (23 U.S.C. 151(f)(8)(G)(ii)).

Application and/or Project Narrative

• A description of how the project aligns with the project merit criteria and statutory application information.

• DOT has designated five project merit criteria which will be used to evaluate and rate the responsiveness of an application to the statutory required selection considerations will evaluate projects using the following criteria: (1) Safety, (2) Climate Change, Resilience and Sustainability, (3) Equity and Justice40, (4) Workforce Development, Job Quality, and Wealth Creation, and (5) CFI Program Vision.

• A detailed project budget, including the grant request amount, other Federal funds, and non-Federal contributions. DOT requires this information to calculate the cost share requirements outlined in statute. Applicants will be required to provide supporting documentation in sufficient detail to describe the project cost breakdown.

• Project Readiness.

• Other identification numbers, such as their Data Universal Numbering System (DUNS) number, Unique Entity Identifier under 2 CFR part 25, etc. All applicants will be required to have pre-registered with the System for Award Management (SAM) at https://sam.gov/SAM/.

Grant Agreement Stage

The grant agreement is an agreement between FHWA and the recipient. If a grant recipient under the CFI is a State Department of Transportation (State DOT), or if a State DOT serves as a pass-through entity to a non-State DOT recipient, CFI funds will be awarded upon the execution of a project agreement: a type of grant agreement for administration of funds allocated to a State DOT in the FHWA Fiscal Management Information System (FMIS).

If a grant recipient under the CFI is any other eligible applicant (i.e., not a State DOT), CFI funds will be awarded upon the execution of a grant agreement between FHWA and the recipient. A non-State DOT selected to receive a CFI award may elect to have a State DOT administer the CFI funds, subject to agreement with the State DOT.

Project Management Stage

The reporting requirements under this stage are necessary to ensure the proper and timely expenditure of Federal funds within the scope of the approved project. The requirements comply with the Common Grant Rule. During the project management stage, the grantee will complete Quarterly Progress and Monitoring Reports to ensure that the project budget and schedule will be maintained to the maximum extent possible, that the project will be completed with the highest degree of quality, and that compliance with Federal regulations will be met. The FHWA may also require substantive requirements of the report include: The project's overall status; project significant activities and issues; action items/outstanding issues; project scope overview; project schedule; project cost; an SF-425 Federal Financial Report; and certifications. This reporting requirement will greatly reduce the need for on-site visits by staff.

Authority: The Paperwork Reduction Act of 1995; 44 U.S.C. chapter 35, as amended; and 49 CFR 1.48.

Respondents: 2,050.

Estimated Average Burden for First Year per Response: 46.

Estimated Total Annual Burden: 25,600.

Authority: The Paperwork Reduction Act of 1995; 44 U.S.C. chapter 35, as amended; and 49 CFR 1.48.

Issued On: April 27, 2023.

Michael Howell,
Information Collection Officer.

[FR Doc. 2023-09314 Filed 5-1-23; 8:45 am]

BILLING CODE P